SOCIAL SECURITY ADMINISTRATION

[Docket No. SSA-2016-0028]

Privacy Act of 1974; Proposed Modified System of Records

AGENCY: Social Security Administration (SSA).

ACTION: Modified System of Records.

SUMMARY: In accordance with the Privacy Act (5 U.S.C. 552a) we are issuing public notice of our intent to modify an existing system of records entitled, Electronic Freedom of Information Act (eFOIA) System (60-0340), last published at 70 FR 3571 (January 25, 2005). This notice publishes details of the proposed updates as set forth below under the caption SUPPLEMENTARY INFORMATION.

DATES: We invite public comment on this new system of records. In accordance with 5 U.S.C. 552a(e)(4) and (e)(11), the public is given a 30-day period in which to submit comments. Therefore, please submit any comments by August 12, 2016.

ADDRESSES: The public, Office of Management and Budget (OMB), and Congress may comment on this publication by writing to the Executive Director, Office of Privacy and Disclosure, Office of the General Counsel, Social Security Administration, Room 617 Altmeyer Building, 6401 Security Boulevard, Baltimore, Maryland 21235-6401, or through the Federal e-Rulemaking Portal at http://www.regulations.gov. All comments we receive will be available for public inspection at the above address and we will post them to http://www.regulations.gov.

FOR FURTHER INFORMATION CONTACT: Tristin Dorsey, Government Information Specialist, Privacy Implementation Division, Office of Privacy and Disclosure, Office of the General Counsel, Social Security Administration, Room 617 Altmeyer Building, 6401 Security Boulevard, Baltimore, Maryland 21235-6401, telephone: (410) 965-2950, email: tristin.dorsey@ssa.gov.

SUPPLEMENTARY INFORMATION: We are modifying the system of records name from eFOIA System, SSA, Office of the General Counsel, Office of Public Disclosure to the Freedom of Information Act (FOIA) and Privacy Act Record Request and Appeal System to accurately reflect the system name, hereinafter referred to as the FOIA and Privacy Act Record Request and Appeal System. We are also modifying the notice throughout to correct miscellaneous stylistic formatting errors of the previously published Notice, and to ensure the language reads consistently across multiple systems.

We are modifying the system of records location by clarifying the name of the office, specifying that paper records are included in the categories of records in the system, explaining how the records are retrieved, revising the language in routine use No. 3 to remove erroneously placed language concerning the disclosure of tax return information, deleting previous routine uses Nos. 4 and 10 which are no longer applicable, and adding a new routine use to clarify that records may be provided to the National Archives and Records Administration, Office of Government Information Services, for all purposes set forth in 5 U.S.C. 552(h)(2)(A-B) and (3). The entire notice is being republished for ease of reference.

In accordance with 5 U.S.C. 552a(r), we have provided a report to OMB and Congress on this modified system of records.

Dated: June 14, 2016.
Glenn Sklar,
Acting Executive Director, Office of Privacy and Disclosure, Office of the General Counsel.

SOCIAL SECURITY ADMINISTRATION

SYSTEM NUMBER: 60-0340

SYSTEM NAME:

Freedom of Information Act (FOIA) and Privacy Act Record Request and Appeal System.

SECURITY CLASSIFICATION:

None.

SYSTEM LOCATION:

Social Security Administration, Office of the General Counsel, Office of Privacy and Disclosure, 6401 Security Boulevard, Baltimore, Maryland 21235-6401.

Social Security Administration, Office of Central Operations, Division of Earnings Records Operations, 6100 Wabash Avenue, Baltimore, Maryland 21290-3022; or regional offices in receipt of original requests (See Appendix C for address information).

CATEGORIES OF INDIVIDUALS COVERED BY THE SYSTEM:

This system maintains information about individuals who submit FOIA or Privacy Act requests, including Privacy Act amendments, or administrative appeals to SSA; individuals whose requests or records have been referred to SSA by other agencies; individuals who submit inquiries to SSA regarding federal agency compliance with the FOIA; attorneys representing individuals submitting such requests and appeals; and individuals who are the subject of such requests and appeals; and SSA personnel assigned to handle such requests and appeals.

CATEGORIES OF RECORDS IN THE SYSTEM:

This system consists of records received, created, or compiled in response to FOIA and Privacy Act requests or administrative appeals, including: the original requests and administrative appeals; responses to such requests and administrative appeals; all related memoranda, correspondence, notes, and other related or supporting documentation; and, copies of requested records relating to original requests and administrative appeals. This system also consists of records related to inquiries submitted to SSA regarding federal agency compliance with the FOIA, and all records related to the resolution of such inquiries.

AUTHORITIES FOR MAINTENANCE OF THE SYSTEM:

The system was established and is maintained to implement the provisions of the Freedom of Information Act (5 U.S.C. 552), Privacy Act (5 U.S.C. 552a), Records Management by Federal Agencies (44 U.S.C. 3101), Section 1106 of the Social Security Act (42 U.S.C. 1306), and SSA Regulations (20 CFR parts 401 and 402).

PURPOSE(S):

This system of records assists us in processing access requests and administrative appeals under the FOIA and the Privacy Act; supporting agency participation in litigation arising from requests and appeals; assigning, processing, and tracking FOIA workloads; and, providing management information reports.

ROUTINE USES OF RECORDS COVERED BY THE SYSTEM, INCLUDING CATEGORIES OF USERS AND THE PURPOSES OF SUCH USES:

We will disclose records pursuant to the following routine uses; however, we will not disclose any information defined as “return or return information” under 26 U.S.C. 6103 of the Internal Revenue Code (IRC), unless authorized by a statute, the Internal Revenue Service (IRS), or IRS regulations.

1. To the Office of the President in response to an inquiry from that office made on behalf of, and at the request of, the subject of record or a third party acting on the subject's behalf.

2. To a congressional office in response to an inquiry from that office made on behalf of, and at the request of, the subject of the record or a third party acting on the subject's behalf.

3. To the IRS, Department of Treasury, for the purpose of auditing SSA's compliance with the safeguard provisions of the IRC of 1986, as amended.

4. To the Department of Justice (DOJ), a court or other tribunal, or another party before such court or tribunal, when

(a) SSA, or any component thereof; or

(b) any SSA employee in his/her official capacity; or

(c) any SSA employee in his/her individual capacity where DOJ (or SSA where it is authorized to do so) has agreed to represent the employee; or

(d) the United States or any agency thereof where SSA determines the litigation is likely to affect SSA or any of its components, is a party to the litigation or has an interest in such litigation, and SSA determines that the use of such records by DOJ, a court or other tribunal, or another party before the tribunal is relevant and necessary to the litigation, provided, however, that in each case, the agency determines that disclosure of the records to DOJ, court or other tribunal, or another party is a use of the information contained in the records that is compatible with the purpose for which the records were collected.

5. To the National Archives and Records Administration (NARA) under 44 U.S.C. 2904 and 2906.

6. To student volunteers, individuals working under a personal services contract, and other workers who technically do not have the status of Federal employees, when they are performing work for SSA, as authorized by law, and they need access to personally identifiable information (PII) in SSA records in order to perform their assigned agency functions.

7. To Federal, State and local law enforcement agencies and private security contractors, as appropriate, information necessary:

(a) To enable them to protect the safety of SSA employees and customers, the security of the SSA workplace, and the operation of SSA facilities; or

(b) to assist investigations or prosecutions with respect to activities that affect such safety and security or activities that disrupt the operation of SSA facilities.

8. To contractors and other Federal agencies, as necessary, for the purpose of assisting SSA in the efficient administration of its programs. We will disclose information under this routine use only in situations in which SSA may enter into a contractual or similar agreement with a third party to assist in accomplishing an agency function relating to this system of records.

9. To appropriate Federal, State, and local agencies, entities, and persons when:

(a) We suspect or confirm that the security or confidentiality of information in this system of records has been compromised;

(b) we determine that, as a result of the suspected or confirmed compromise, there is a risk of harm to economic or property interests, identity theft or fraud, or harm to the security or integrity of this system or other systems or programs that rely upon the compromised information; and

(c) we determine that disclosing the information to such agencies, entities, and persons is necessary to assist in our efforts to respond to the suspected or confirmed compromise and prevent, minimize, or remedy such harm.

10. To NARA, Office of Government Information Services (OGIS), to the extent necessary to fulfill its responsibilities in 5 U.S.C. 552(h) to review administrative agency policies, procedures and compliance with the FOIA, and to facilitate OGIS' offering of mediation services to resolve disputes between persons making FOIA requests and administrative agencies.

DISCLOSURE TO CONSUMER REPORTING AGENCIES:

None.

POLICIES AND PRACTICES FOR STORING, RETRIEVING, ACCESSING, RETAINING, AND DISPOSING OF RECORDS IN THE SYSTEM:

STORAGE:

We will maintain records in this system in paper and in electronic form.

RETRIEVABILITY:

We will retrieve records in this system by the name and Social Security number (SSN) of the requester or appellant; case number assigned to the request or appeal; name of attorney representing the requester or appellant; the name of an individual who is the subject of such a request or appeal; or subject matter.

SAFEGUARDS:

We retain electronic records with personal identifiers in secure storage areas accessible only by our authorized employees and contractors who have a need for the information when performing their official duties. Security measures include the use of access codes and profiles, personal identification number (PIN) and password, and personal identification verification (PIV) cards. We keep paper records in cabinets within secure areas, with access limited to only those employees who have an official need for access in order to perform their duties.

We annually provide our employees and contractors with appropriate security awareness training that includes reminders about the need to protect PII and the criminal penalties that apply to unauthorized access to, or disclosure of, PII (5 U.S.C. 552a(i)(1)). Furthermore, employees and contractors with access to databases maintaining PII must sign a sanctions document annually acknowledging their accountability for inappropriately accessing or disclosing such information.

RETENTION AND DISPOSAL:

We retain and dispose of records in accordance with NARA's General Records Schedule 4.2, Information Access and Protection Records (DAA-GRS-2013-0007-0002).

SYSTEM MANAGER AND ADDRESS:

Freedom of Information Officer, Social Security Administration, Office of the General Counsel, Office of Privacy and Disclosure, 6401 Security Boulevard, Baltimore, Maryland 21235-6401.

NOTIFICATION PROCEDURES:

Persons can determine if this system contains a record about them by writing to the system manager at the above address and providing their name, SSN, or other information that may be in this system of records that will identify them. Persons requesting notification by mail must include a notarized statement to us to verify their identity or must certify in the request that they are the person they claim to be and that they understand that the knowing and willful request for, or acquisition of, a record pertaining to another person under false pretenses is a criminal offense.

Persons requesting notification of records in person must provide the same information, as well as provide an identity document, preferably with a photograph, such as a driver's license. Persons lacking identification documents sufficient to establish their identity must certify in writing that they are the person they claim to be and that they understand that the knowing and willful request for, or acquisition of, a record pertaining to another person under false pretenses is a criminal offense.

Persons requesting notification by telephone must verify their identity by providing identifying information that parallels the information in the record about which they are requesting notification. If we determine that the identifying information the person provides by telephone is insufficient, we will require the person to submit a request in writing or in person. If a person requests information by telephone on behalf of another person, the subject person must be on the telephone with the requesting person and us in the same phone call. We will establish the subject person's identity (his or her name, SSN, address, date of birth, and place of birth, along with one other piece of information, such as mother's maiden name) and ask for his or her consent to provide information to the requesting person. These procedures are in accordance with our regulations (20 CFR 401.40 and 401.45).

RECORD ACCESS PROCEDURES:

Same as notification procedures. Persons must also reasonably describe the record contents they are seeking. These procedures are in accordance with our regulations (20 CFR 401.40(c)).

CONTESTING RECORD PROCEDURES:

Same as notification procedures. Persons must also reasonably identify the record, specify the information they are contesting, and state the corrective action sought and the reasons for the correction with supporting justification showing how the record is incomplete, untimely, inaccurate, or irrelevant. These procedures are in accordance with our regulations (20 CFR 401.65(a)).

RECORD SOURCE CATEGORIES:

We obtain information in this system of records primarily from the person to whom the record pertains.

SYSTEMS EXEMPTED FROM CERTAIN PROVISIONS OF THE PRIVACY ACT:

None.

[FR Doc. 2016-16547 Filed 7-12-16; 8:45 am]

BILLING CODE 4191-02-P